DEPARTMENT OF ENERGY

Federal Energy Regulatory Commission

Combined Notice of Filings #1

Take notice that the Commission received the following electric corporate filings:

Docket Numbers: EC15-205-000.

Applicants: Bishop Hill Energy LLC, California Ridge Wind Energy LLC, Prairie Breeze Wind Energy LLC.

Description: Application for Authorization under Section 203 of the Federal Power Act and Request for Waivers, Confidential Treatment, and Expedited Consideration of Bishop Hill Energy LLC, et al.

Filed Date: 9/11/15.

Accession Number: 20150911-5143.

Comments Due: 5 p.m. ET 10/2/15.

Take notice that the Commission received the following electric rate filings:

Docket Numbers: ER13-1928-006.

Applicants: Duke Energy Progress, LLC, Duke Energy Carolinas, LLC.

Description: Compliance filing: Order No. 1000 Interregional—SERTP and SPP to be effective 1/1/2015.

Filed Date: 9/14/15.

Accession Number: 20150914-5072.

Comments Due: 5 p.m. ET 10/5/15.

Docket Numbers: ER15-2647-000.

Applicants: Tres Amigas, LLC.

Description: Baseline eTariff Filing: Tres Amigas-Broadview Energy Agreements to be effective 11/10/2015.

Filed Date: 9/11/15.

Accession Number: 20150911-5137.

Comments Due: 5 p.m. ET 10/2/15.

Docket Numbers: ER15-2648-000.

Applicants: PJM Interconnection, L.L.C.

Description: § 205(d) Rate Filing: Revisions to Operating Agreement Schedule 6 Section 1.5 re: Fee Proposal Windows to be effective 12/31/9998.

Filed Date: 9/11/15.

Accession Number: 20150911-5142.

Comments Due: 5 p.m. ET 10/2/15.

Docket Numbers: ER15-2649-000.

Applicants: Midcontinent Independent System Operator, Inc., Ameren Illinois Company.

Description: § 205(d) Rate Filing: 2015-09-14_SA 2839 ATXI-AIC Construction Agreement (Kansas Substation) to be effective 9/14/2015.

Filed Date: 9/14/15.

Accession Number: 20150914-5088.

Comments Due: 5 p.m. ET 10/5/15.

Take notice that the Commission received the following electric reliability filings:

Docket Numbers: RR15-18-000.

Applicants: North American Electric Reliability Corporation.

Description: Petition of the North American Electric Reliability Corporation for Approval of Amendments to Exhibit B to the Delegation Agreement with SERC Reliability Corporation—Amendments to SERC Bylaws.

Filed Date: 9/14/15.

Accession Number: 20150914-5122.

Comments Due: 5 p.m. ET 10/5/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 14, 2015.
Nathaniel J. Davis, Sr.,
Deputy Secretary.

[FR Doc. 2015-25730 Filed 10-8-15; 8:45 am]

BILLING CODE 6717-01-P